DEPARTMENT OF TRANSPORTATION

National Highway Traffic Safety Administration

49 CFR Part 579

[Docket No. NHTSA 2001-8677; Notice 5]

RIN 2127-AI92

Reporting of Information and Documents About Potential Defects

AGENCY: National Highway Traffic Safety Administration (NHTSA), DOT.

ACTION: Final rule; response to petitions for reconsideration.

SUMMARY: This document responds to previously-unaddressed issues raised in petitions for reconsideration of the final rule published on July 10, 2002, that implemented the early warning reporting provisions of the Transportation Recall Enhancement, Accountability, and Documentation (TREAD) Act. Under this rule, motor vehicle and motor vehicle equipment manufacturers will be required to report information and to submit documents about customer satisfaction campaigns and other activities and events that may assist NHTSA to promptly identify defects related to motor vehicle safety. NHTSA responded to some of the issues raised in the petitions in a notice published on April 15, 2003, and stated that it would respond to the remaining issues in the future.

DATES: Effective Date: The effective date of the amendments made by this final rule is July 11, 2003. Petitions for Reconsideration: Petitions for reconsideration of any amendments made by this final rule must be received not later than July 28, 2003.

ADDRESSES: Petitions for reconsideration of the amendments made by this final rule must refer to the docket or Regulatory Identification Number (RIN) for this rulemaking, and be addressed to the Administrator, National Highway Traffic Safety Administration (NHTSA). You may submit a petition by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting petitions.

FOR FURTHER INFORMATION CONTACT: For non-legal issues, contact Jonathan White, Office of Defects Investigation, NHTSA (phone: 202-366-5226). For legal issues, contact Taylor Vinson, Office of Chief Counsel, NHTSA (phone: 202-366-5263).

SUPPLEMENTARY INFORMATION:

I. Background

On July 10, 2002, NHTSA published a final rule implementing the early warning reporting provisions of the Transportation Recall Enhancement, Accountability, and Documentation (TREAD) Act, established by 49 U.S.C. 30166(m) (67 FR 45822). The reader is referred to that document, and the prior Notice of Proposed Rulemaking (NPRM) (66 FR 66190) for further information.

Petitions for reconsideration of the rule were filed on or before August 26, 2002, by the Alliance of Automobile Manufacturers (the Alliance), General Motors Corporation (GM), the National Association of Trailer Manufacturers (NATM), the National Truck Equipment Association (NTEA), the Recreational Vehicle Industry Association (RVIA), and the Juvenile Products Manufacturers Association (JPMA).

GM and NATM filed untimely supplemental comments on October 15, 2002, and a petition for rulemaking was filed by the National Trailer Dealers Association (NTDA) on November 1, 2002 relating to the threshold for full reporting. On November 23, 2002, NATM filed a petition for rulemaking to delay the initial reporting date under the rule, as did NTEA and RVIA jointly, on December 5, 2002. Additional comments were filed by Public Citizen on November 26, 2002, and Stephen E. Selander on November 27, 2002.

On October 10, 2002, the Alliance wrote NHTSA requesting that certain issues it had raised in its petition be treated on a prioritized basis. It separated its issues into three groups and explained that “Generally, those issues given a priority “1” rating are those that require resolution to allow Alliance members to effectively plan and efficiently execute actions needed to develop compliant reporting systems.” These issues concerned field reports, in-plant inspection records and other documents, one-time historical reports, and multiple “substantially similar” platforms. After reviewing the Alliance's comments and letter of October 10, the agency concluded that granting this request would aid in an orderly implementation of the final rule and, on April 15, 2003, we published a notice addressing the Alliance's priority “1” issues as well as other issues (68 FR 18136).

This notice addresses remaining issues raised by the Alliance and other persons in timely filed petitions for reconsideration of the final rule. Issues related to thresholds for reporting will be addressed in a subsequent notice.

II. Petitions Concerning the Recordkeeping Requirements of 49 CFR Part 576

Each manufacturer of motor vehicles and motor vehicle equipment is required to retain the underlying records on which the information that it reports to NHTSA under the final early warning reporting rule is based. These records must be kept for a period of five calendar years from the date on which they were generated or acquired by the manufacturer (see 49 CFR 576.5(b)). Among the information to be reported to NHTSA under the early warning reporting final rule is the one-time submission by certain manufacturers of certain historical information for a period that begins April 1, 2000 (Section 579.28(c)). Section 576.5(b) requires manufacturers of motor vehicles to retain the underlying records for the one-time historical report, which covers the 12-quarterly period ending March 31, 2003, until the same date in 2008. The Alliance asserted that these two regulatory provisions have the effect of requiring manufacturers to retain records for periods longer than five years, “a burden that was not identified or estimated in connection with the adoption of the final rule or in the Paperwork Reduction Act clearance request submitted by the agency to OMB.” The Alliance suggested that “manufacturers [could] retain the supporting information for each historic report for a period of time equal to five years from the beginning of the reporting quarter. Thus, for example, the record used to prepare the historic report for the third quarter of 2002 would be retained until the third quarter of 2007—five years after their creation.”

The Alliance's interpretation differs from ours. The regulatory requirement is to retain the underlying records for a period of five years “from the date on which they were generated, or acquired by the manufacturer” not five years after the date of the report to NHTSA. Under the existing regulation, as we interpret it, the records underlying the oldest data used to prepare the historical report, those for the second quarter of 2000, would be retained until the second quarter of 2005, five years after the records were generated. This is consistent with the outcome that the Alliance requested.

JPMA asked whether it was necessary to retain “non-substantive information (such as name, address, telephone number of claimant), or hard-copies of incoming or outgoing correspondence related to the claim (such as letters obtaining additional information from the claimant), that complete the entire underlying claim record.” The answer is yes, it is necessary to retain this information. It is substantive material. For example, we may wish to contact the claimant. The records underlying the reports to NHTSA will not be complete without the information referred to by JPMA.

III. Petitions To Clarify Production Numbers To Be Reported Under Part 579

The final rule requires reporting of production numbers by manufacturers who sell vehicles in the United States even if those vehicles are made outside the United States. The Alliance, JPMA, and RMA viewed the production reporting as ambiguous, that it could be interpreted as requiring a manufacturer to report its world-wide production. The Alliance assumed that NHTSA only wants production figures for units destined for sale in the United States, otherwise NHTSA could be comparing U.S. trend-indicator data against a world-wide production number. The Alliance is correct, with the caveat that vehicles destined for lease in the United States are included as well. Moreover, for the same reason, manufacturers producing vehicles in the United States for export should not include the exported vehicles in their production numbers.

IV. Petitions To Amend or To Clarify Section 579.4(c), Other Terms

Section 579.4(c) contains definitions of terms used in the early warning reporting final rule. We were asked to amend or to clarify a number of these terms as well as to add definitions.

1. Affiliate. The final rule defines “affiliate” in pertinent part as “a person that directly, or indirectly through one or more intermediates, controls or is controlled by, or is under common control with, the person specified.” RMA recognized that we had based this definition on regulations of the Securities and Exchange Commission (SEC) (17 CFR 230.405), which also provide a separate definition of “control.” RMA urged us to adopt the SEC definition “in order to ensure that the term ‘affiliate’ is defined with specificity.” We concur with this recommendation, and are defining the term “control” as follows:

Control (including the terms controlling, controlled by, and under common control with) means the possession, direct or indirect, of the power to direct or cause the direction of the management and policies of a person, whether through the ownership of voting securities, by contract, or otherwise.

2. Base. JPMA asked whether “base” means only a detachable base used with an infant seat and not the permanently-installed base associated with some designs of convertible child restraints that allow changing positions for child comfort. We defined “base” as “the detachable bottom portion of a child restraint system that may remain in the vehicle to provide a base for securing the system to a seat in a motor vehicle.” Thus, this term applies only to the detachable base used with an infant seat.

3. Buckle and release harness. JPMA also asked whether the definition of “buckle and restraint harness” included “harness clips.” See Section 579.25(b)(2). Our definition included “the components that are intended to restrain a child seated in such a system. * * *” A harness clip can help ensure that the harness is properly positioned on the child's shoulders and chest at time of impact. However, under the early warning rule, we do not view it as a component intended to restrain a seated child. If a manufacturer receives a claim or notice of a death or injury that is alleged to be due to a problem or defect in a harness clip, the incident would be reported under “other” rather than “buckle and restraint harness.”

4. Claim. In its comments on the NPRM, the Alliance recommended that early warning reports of injuries should not include claims or notices about “emotional” and other non-physical injuries because these are not ordinarily the type of injury with which NHTSA is concerned under the Vehicle Safety Act. We disagreed, noting that a claim for emotional distress following (for example) an inadvertent airbag deployment or a loss of vehicle control would be of interest to us (p. 45840). The final rule requires manufacturers of 500 vehicles or more, and manufacturers of tires and child restraint systems, to provide information on claims of injuries and on notices of injuries occurring in the United States that are alleged or proven to be due to a defect in the manufacturer's product. Reportable injuries were not limited in the regulatory text. The preamble indicated that NHTSA intends the term “injury” to include non-physical as well as physical injuries. Saying that it had not been clear as to what we meant, the Alliance requested that we exclude from the definitions of “claim” and “notice” any injury claim “that is derivative of a fatality/injury claim that is separately reportable under the early warning system.” In support of its latest request, the Alliance evoked the specter of derivative claims by persons related to persons injured in a crash but who themselves were not physically present when the injury occurred. The Alliance asserted that reporting of derivative injury claims will distort the real injury accident rate for a particular make/model of vehicle.

We have reviewed the Alliance's request and are modifying the regulations in part. Claims may be asserted until the statute of limitations runs. In some cases, the initial claim against a manufacturer will be made by a person physically injured as a direct result of a crash, whether the claimant is inside a vehicle or outside of it. But in other cases, the initial claim may be filed by a person outside the vehicle who was not physically injured by the crash or physically present at the crash. There could be a considerable difference in time between the submission of the two claims. We want to be aware of claims arising out of alleged defects as soon as possible, and therefore do not want to broadly exempt all derivative claims. However, a derivative injury claim would appear to provide little benefit for early warning reporting purposes when an incident involving a death or injury that is the predicate for the derivative claim has been reported to NHTSA. We are balancing these concerns by retaining the general requirement that manufacturers report claims and notices by vehicle occupants and people outside vehicles who were not physically injured in a crash but presented claims for emotional distress, but are adding an exclusion that these claims and notices need not be reported if the manufacturer has reported the incident as an incident involving a death or injury. This exclusion includes a claim for a non physical injury presented in the same document as a claim for death or a physical injury, and a claim for a non physical injury received by the manufacturer in the same reporting period as the claim for death or physical injury, regardless of which was received first. To clarify this point, we are adding a subsection to Section 579.28 that states that if a manufacturer has reported a claim or notice relating to an incident involving death or injury, the manufacturer need not report a claim or notice arising out of the incident by a person who was not injured physically. For further discussion of this subsection, see Paragraph VI below relating to property damage claims.

RMA also urged NHTSA to exclude non-physical injuries. It was concerned that such a requirement “could lead to the filing of frivolous or baseless claims that may be part of a campaign designed solely to damage the reputation of a tire manufacturer.” RMA has not demonstrated that in reality this would be a likely problem. We addressed the issue in the final rule. We further note that the rules of many courts preclude the filing of frivolous claims. See, e.g., Rule 11(b), Fed. R. Civ. P. In any event, we will be able to deal with such matters during the screening process.

5. Field report. We reviewed our revised redefinition of “field report” after its publication on April 15, 2003 (68 FR 18136 at 18142) and concluded that it could be clarified and simplified by removal of some commas. We have revised the definition accordingly.

6. Fire. The final rule defined “fire” to mean “combustion or burning of any material in a vehicle as evidenced by, but not limited to, flame, smoke, sparks, or smoldering.” The Alliance objected to the definition and asserted that the definition includes events which may not result in a fire. Consequently, in their view, the reporting category may overstate “fires” to the uninformed when “they may involve nothing more than reports of exhaust smoke * * * .” The Alliance recommended that the title of the reporting category be changed to “FSSS” to indicate that more events are included than just fire events, i.e., “flame, smoke, sparks, or smoldering.”

We agree that some of the events referred to under the current definition of “fire” are not generally considered fires as that term is normally used by the public. However, many of the system and component categories include items that are not fully consistent with a layman's use of the word. That is why we developed regulatory definitions. Therefore, we see no need to revise the definition as requested. However, we will make a wording change to clarify that not all events covered by the definition involve flame. Moreover, we have recently encountered euphemistic descriptions of fires by manufacturers as “thermal events.” We are adding a reference to “thermal events” to assure that they are not omitted in reporting. Of course, thermal events would not include heat generated by a normally operating engine or heating/cooling by a vehicle's climate control system. Therefore, the term “fire” is amended to mean

combustion or burning of any material or fuel in or from a vehicle as evidenced by flame. The term also includes, but is not limited to, thermal events and fire-related phenomena such as smoke, sparks, or smoldering, but does not include events and phenomena associated with a normally functioning vehicle such as combustion of fuel within the engine or exhaust from an engine.

7. Handle. JPMA pointed out that the final rule requires child restraint system manufacturers to report incidents involving “handles.” Because some child restraints do not have separate handles, and are designed to be carried by the shell, JPMA asserted that it is necessary to define “handle” as a separate element of a child restraint. It suggested a definition of “handle,” with which we generally concur. We are adopting a definition of “handle” to read as follows:

Handle means any element of a child restraint system that is designed to facilitate carrying the restraint outside a motor vehicle, other than an element of the seat shell.

8. Minimal specificity. Under the final rule, a tire manufacturer must report the aggregate number of property damage claims it received during a calendar quarter that identify the manufacturer, model, and tire line. The reporting manufacturer must also identify the component of the tire allegedly giving rise to the claim. However, if the property damage claim fails to specify the component, the manufacturer is not required to include the report in the aggregate number reported.

RMA reiterated its comment to the NPRM that the tire identification number (TIN) be added to the definition of “minimal specificity.” Its request focused on property damage claims. RMA argued that a report of property damage claims is meaningless unless the TIN of the tire involved in the claim is known, and that, in many instances, the TIN and other information, including the component code to be identified, will not be specified in a claim. RMA urged us to “reconsider this issue,” and “require the inclusion of the TIN information for purposes of satisfying the ‘minimal specificity’ necessary to trigger a tire manufacturer's obligation to report property damage claims.” In support, RMA argued that without the TIN, manufacturers will not be able to report at the level of the stock keeping unit (SKU) number for a tire, which is a required reporting element under Section 579.26. Without the TIN, RMA claimed that data could only be completed by tire line and size and would be of limited benefit to NHTSA. With respect to property damage claims, we agree and are amending the last sentence of Section 579.26(c) to state that “No reporting is necessary if the system or component involved is not specified in such codes, or if the TIN is not specified in any property damage claim.” As elsewhere under the early warning rule, the term “claim” includes both the initial document received by the manufacturer and subsequent documents. However, we are not changing the definition of minimal specificity with respect to tires, so claims and notices of deaths or injuries must be reported under Section 579.26(b) even if the TIN is not known. As specified in Section 579.28(f)(2)(i), if the tire manufacturer subsequently became aware of the TIN, it must submit an updated report.

RMA also claimed that an actual physical inspection is necessary to provide meaningful information about potential tire problems. However, we decline RMA's suggestion to only report property damage claims involving tires that have been inspected. For early warning reporting purposes, we are collecting information on the basis of what is “claimed” rather than the manufacturer's view of the claim.

9. Model. Under the final rule, a child restraint system is defined as “equipment.” Under Section 579.25(a), manufacturers of child restraint systems must provide information on each make and “model.” For equipment, we defined “model” as “the name that its manufacturer uses to designate it.” JPMA asserted that the industry uses model designators for reasons that do not always correspond with structural or material differences in the product. Manufacturers may assign a different “model number” to identify different patterns on the pad fabric or to identify products destined for different retailers. Requiring reporting by “model number” could result in separating similar restraints into different reports. Accordingly, JPMA recommended that “model” be defined “to be child restraints with the same shell and same restraint/harness system.” Thus, in its opinion, child restraints offered with and without bases would be the same “model” if they nevertheless have the same shell and restraint/harness system. If two restraints use the same shell but different restraint/harness configurations, they would be defined as separate “models.”

The definitional problem is that “model” has been defined to mean a “name” that a manufacturer uses to designate a vehicle or equipment. JPMA's comment did not indicate that child restraint system manufacturers use the same name to identify systems with the same shell and restraint/harness if they otherwise differ. However, it is our understanding that they do. We have considered whether adopting JPMA's suggested definition, which does not include “base” as a definitional criterion, might result in a reduction of reporting that could lead to a failure to receive early indicators of problems with bases. If Model X, for example, having the same shell and restraint/harness is manufactured in two configurations, one with a base and one without, and its manufacturer receives reportable data regarding the configuration with a base, the data cannot be realistically evaluated for early warning purposes if it is considered in the context of a total production that includes the configuration without a base. Ordinarily, it should be considered in the context of the total production of Model X systems with bases. Therefore, we have concluded that it is necessary to add “base (if so equipped)” to JPMA's suggested definition. Accordingly, we are amending the definition of “model” to state that, for child restraint systems, model means “the name that the manufacturer uses to identify child restraint systems with the same seat shell, buckle, base (if so equipped), and restraint system.” Under this definition of “model,” a restraint system with the same seat shell, buckle, and restraint system would nevertheless be divided into different models for reporting purposes if it were available both with a base and without a base.

10. Model year. With reference to vehicles and equipment to which manufacturers have not designated a model year, the definition of “model year” in the final rule means the year in which the vehicle equipment item was produced. This year is generally understood to be the calendar year. Because the final rule contains numerous references to “production year” (see, e.g., Section 579.25) without a definition for the term, we have decided to revise the definition of “model year” and adopt a definition of “production year.” Under the revised definition, “model year” means “the year that a manufacturer uses to designate a discrete model of vehicle, irrespective of the calendar year in which the vehicle was manufactured.” The added term “production year” means “for a vehicle, the calendar year in which a vehicle is produced if the vehicle's manufacturer has not assigned it a model year. For equipment and tires, it means the calendar year in which the item was produced.”

11. Seat shell. JPMA sought assurance that the term “seat shell” does not include “shell accessories,” such as the tether, the label, or the seat pad. The final rule defined “seat shell” to mean the component, be it plastic or other material, which forms the structural shape, form, and support for the child seating system and other components to allow the seat to be secured to a passenger seat. The “accessories” listed by JPMA are not any of these components. JPMA also sought our assurance that accessories sold separately from child restraint systems (such as tether strap sets, latch retrofit units and bases) are not covered as well. We confirm that these separately-sold accessories are not covered under Section 579.25(c). However, information about claims or notices of deaths and injuries allegedly due to a defect in accessories such as tether strap sets, latch retrofit units and bases would have to be submitted pursuant to Section 579.27.

12. Service brake system. The definition of “service brake system” includes brake-related “equipment installed in a vehicle in order to comply with FMVSS Nos. 105, 121, 122, or 135.” The Alliance pointed out that certain components of the parking brake system (a separate defined system for early warning reporting purposes) are covered in Standards Nos. 105 and 135, and that the definition should be amended to clarify that “service brake system” does not include parking brakes. The point is well taken, and we are amending the definition to add an exclusion after the reference to “135” to read “(except equipment relating specifically to a parking brake).” This will clarify that dual reporting is not required with respect to problems with a parking brake installed pursuant to either FMVSS No. 105 or No. 135.

13. Tire. RMA took issue with that portion of our definition of “tire” that includes “the tire inflation valves, tubes, and tire pressure monitoring regulating systems, as well as all associated switches, control units, connective elements (such as wiring harnesses, hoses, piping, etc.) and mounting elements (such as brackets, fasteners, etc.).” The latter included tire pressure monitoring system components. RMA objected “to including non-tire components” on the grounds that NHTSA did not propose a definition of “tire,” and thus the industry had no chance to comment on it. They have taken the opportunity to comment in their request for reconsideration.

Although we recognize that these components are not actually “tires” in the common usage of the word, we believe that it is important to retain the definition as adopted in order to capture tire-related information in the possession of vehicle manufacturers that can affect the performance of a tire on a vehicle, as well as the actual tire itself. Therefore, we are denying RMA's petition on this point. However, to clarify that the broad definition of tire does not affect the reporting responsibilities of tire manufacturers under Section 579.26, we are amending the definition to state that it only applies to Sections 579.21-.24 and 579.27.

14. Warranty claim. The definition of “warranty claim” excludes “work performed .* * * in connection with an emissions-related recall under the Clean Air Act.” The Alliance requested us to amend this definition to exclude work performed in connection with any emissions-related recall under state emissions laws, such as might be required by the California Air Resources Board (CARB). It asserted that such an exclusion is consistent with the exclusion of Federal emissions recall work. We agree that there is no need to report work to satisfy State emissions-related recalls such as CARB might require on the so-called California car which distinguishes it from the EPA-regulated vehicles for initial sale in almost all other states. See 42 U.S.C. 7543(b), 7507; Motor Vehicle Manufacturers Ass'n v. N.Y. State, 17 F.3d 521 (2d Cir. 1994). Therefore, we are amending the definition of “warranty claim” to exclude “claims for reimbursement * * * in connection with a motor vehicle emissions-related recall under the Clean Air Act, or, in accordance with State law as authorized under 42 U.S.C. 7543(b) or 7507.”

V. Petition by the Alliance Requesting Clarification of Property Damage Claims To Be Reported by Manufacturers of Motor Vehicles and Tires

With respect to the reporting of property damage claims with associated fatalities/injuries, the NPRM stated (66 FR 45846) that “If the incident that allegedly led to the property damage also resulted in a death or injury, the manufacturer would only report the incident as one involving a death or injury, and it would not be required to report the incident under the property damage requirement. Otherwise there could be a misleading ‘double count.’ ” The Alliance noted that this clarification was not repeated in the final rule and asked for confirmation “that property damage claims are not separately reportable if the same incident resulted in a reported death or injury.”

Our omission in the final rule was unintentional. However, to simplify reporting by manufacturers, we will not require such property damage claims to be included. Therefore, we are adding new subsection (h) to Section 579.28, which also includes the exclusion of derivative claims discussed above, and which reads as follows:

(h) When a report involving a claim or notice or is not required. If a manufacturer has reported a claim or notice relating to an incident involving death or injury, the manufacturer need not:

(i) report a claim or notice arising out of the incident by a person who was not injured physically, and

(ii) include in its number of property damage claims a property damage claim arising out of the incident.

This exemption includes property damage claims that may be received during or subsequent to the quarter in which a claim or notice of death or injury is reported.

We are redesignating existing subsections (h) through (l) as (i) through (m) respectively.

VI. Petition by JPMA To Reconsider Some Requirements of Section 579.25 That Apply to Manufacturers of Child Restraint Systems

JPMA commented that the preamble to the final rule indicated that child restraint system manufacturers would have to identify the “type” of restraint (e.g., rear-facing infant seat, booster seat, or other) for which a quarterly report is being made. However, this requirement was not contained in Section 579.25. When NHTSA posted reporting templates on its Web site on August 14, 2002, only the production template specified that the “type” of child restraint be indicated. This requirement was not included in the templates for any of the substantive reporting categories such as death/injury. This led JPMA to believe that it was unclear “what value it is to NHTSA to require segregating production numbers by ‘type.’ ”

Our omission of the word “type” in Section 579.25(a) was inadvertent, and we are correcting that omission here (we previously included “type” in Section 579.21(a), which applies to light vehicles). With regard to JPMA's other comment, the production template links the make, model, and production year with the “type.” The reporting templates for categories of death/injury, warranty/consumer complaints, etc., contain the make, model, and production year. The data reported on the production template provide the information which will allow us to link the make, model, and production year data on the death/injury, warranty/consumer complaints etc. to a particular “type.”

JPMA also commented that the three reporting categories of “rear facing infant seat,” “booster seat,” and “other” do not cover the range of products available. It asked how its members should categorize a hybrid product that is both a rear-facing infant seat and a toddler seat. We believe that these three categories are sufficient; in response to the specific question, hybrids such as infant/toddler or toddler/booster should be reported under “other.”

We note here that the definitions of “rear-facing infant seat,” “booster seat,” and “other” were revised in the earlier final rule on reconsideration, published on April 15, 2003 (68 FR 18136).

Section 579.25(b)(1) requires a child restraint manufacturer to submit “a report on each incident involving one or more deaths or injuries that is identified in a claim against and received by the manufacturer * * *.” JPMA asked for clarification of how its members should report to NHTSA “when there are injuries to adults or unrestrained children in a collision that also involved an allegedly restrained child.” JPMA presented the following example: Manufacturer A receives a claim for an injury to a child allegedly restrained in a child restraint manufactured by A. The same claim is also served on child restraint manufacturer B, in whose product a second child was allegedly injured, and on vehicle manufacturer C, in whose vehicle the two restrained children, their unrestrained brother, and their two parents were allegedly injured.

In JPMA's view, it would contaminate the data base if JPMA member reports also included the adult injuries or unrestrained child injuries that occurred in the same motor vehicle collision, or if they included the injuries that allegedly occurred to a child restrained in a competitor's product. JPMA members will likely be on notice of these other injuries because any claim/lawsuit will list all the theories on which the claimants seek relief. JPMA sought our concurrence that only those injuries/fatalities to children purportedly restrained in child restraints manufactured by the reporting manufacturer should be reported by its members.

We do not concur with JPMA's interpretation. The hypothetical presented by JPMA likely would result in a separate claim against two separate manufacturers of child restraints and the manufacturer of the motor vehicle in which the child restraints were installed. Each manufacturer is required to report only the claim against it; other manufacturers receiving a multiple-party claim will report the claim as it applies to them, which would relate to their products. Also, if a restraint broke and impacted a child seated in a different manufacturer's restraint, the manufacturer of the broken restraint would have to report a claim against it by the child in the other restraint.

Another question asked by JPMA was whether the early warning reporting rule requires manufacturers to report warranty claims/consumer complaints related to lower anchor/tether issues. The commenter observed that under NHTSA's definitions, all complaints/claims regarding vehicle components installed in accordance with FMVSS No. 225 are reportable by the vehicle manufacturer as “seat belt” issues. We confirm JPMA's interpretation is correct, insofar as it states that child restraint manufacturers are not required to report on claims that by their terms are based on lower anchor/tether anchorage issues involving vehicle equipment. However, if a child restraint manufacturer receives a claim or a notice of death or injury alleging, for example, that a defect in the child restraint caused it to detach from such an anchorage, that claim or notice would have to be reported under Section 579.25(b).

JPMA sought NHTSA's guidance on “how to handle the situation in which a consumer complaint/warranty claim comes into the company but the production date is not ascertainable because the date code is not legible.”

For child restraint systems, “minimal specificity” does not include the production year. Thus, the absence of a statement specifying the year the restraint was produced does not excuse the manufacturer from reporting a claim, notice, consumer complaint, warranty claim, or field report to the agency. This issue does not create a problem in the vehicle or tire context since the model/production year is almost always known by the manufacturer through the VIN or the TIN. To address this situation in the child restraint system context, we will require manufacturers to add a separate category of “unknown” model year (designated by the number “9999”) in addition to the up-to-five production years on which they currently must report the number of consumer complaints/warranty claims. We are amending Section 579.25 appropriately. Moreover, since the production year may not be specified in a claim or notice involving other types of equipment (aside from tires) we are making a similar addition to Section 579.27(c). These changes will also be reflected in the reporting templates.

JPMA commented that child restraint systems are often returned to the manufacturer for inspection following a consumer complaint. In many cases, the inspection may also cover aspects of the system not directly related to the complaint of the customer who returned the restraint. JPMA cited as an example, “a restraint returned for a customer complaint of a ‘sticky buckle’ may be inspected and deemed to have a properly functioning buckle, but the inspector notes a deformation in the seat shell that indicates potential misuse.” JPMA asked how a “field report” describing that inspection should be categorized in the quarterly report.

The fact that the employee or representative of the manufacturer who conducted the inspection believes that the buckle functioned properly and that the shell may have been misused in service does not excuse the manufacturer from reporting both of these conditions in the field report category. A written communication does not have to be verified or assessed to have merit to be reported in this category (see definition of “field report”). In the example given, the report would be included in the number of field reports under both “buckle and restraint harness” and “seat shell” since there was an indication of a review and assessment related to both components. However, the original consumer complaint would only have to be reported in the “buckle and restraint harness” category.

Finally, JPMA pointed out that the template on NHTSA's Web site for reporting incidents of death or injury contains five spaces for entering a code number corresponding to one of four component codes, one for “other” and one for “unknown,” a total of six possibilities. JPMA asked that the templates be revised to add a sixth space.

We do not believe that this is necessary. The spaces in the template are not dedicated to particular component categories, and there are no circumstances under which all six spaces would be required (e.g., a manufacturer reporting problems in all four component categories, and “other” as well, will not be reporting “unknown”).

VII. Petition by RMA To Reconsider Some Requirements of Section 579.26 That Apply to Manufacturers of Tires

RMA asserted that the vast majority of property damage claims fail to provide information needed to properly categorize the tire or assign the proper component code for reporting. It cited a recent survey in which each of its six members reviewed ten consecutive property damage claims; of the 60 claims, only 13 had information concerning the condition of the tire allegedly associated with the claim. For this reason, it asked that tire manufacturers not be required to report a property damage claim until it had inspected a tire.

Section 579.26(c) requires a report on the number of property damage claims “which involve the components specified in codes 71 through 73, and 98;” that is to say, a tire manufacturer must report claims involving tread, sidewall, bead, or a component other than tread, sidewall, and bead. The operative word here is “involve.” A property damage claim need not be reported until the component “involved” in the claim is identified in some fashion (especially for code 98). However, this does not mean that the manufacturer can wait until it inspects the tire, since the claim itself may identify an alleged problem component, and, in any event, the result of a manufacturer's inspection cannot justify a failure to report based on a claim. The manufacturer would include the claim in the number of claims for the quarter in which the component is identified, even if that is a different quarter from the one in which the manufacturer initially receives the claim. If the component is never identified, either by the claimant or upon the manufacturer's inspection of the tire, the manufacturer would not have to report the claim.

RMA asked us to reconsider the decision we made in issuing the final rule (67 FR at 45853) not to include “customer satisfaction conditions” as a reportable category under “warranty adjustments.” We have re-examined the discussion of this issue in the NPRM (66 FR 66190), RMA's comment to it, and our response in the preamble to the final rule, cited above. We have concluded that it is not necessary to establish a separate category to address RMA's concern. To explain: in the NPRM, proposed Section 579.27(c) referred to reporting by tire manufacturers of “warranty claims (adjustments).” The NPRM defined “warranty claim” as including any claim presented to a manufacturer for payment pursuant to “good will.” “Good will,” in turn, was defined in the NPRM as repair or replacement “not covered under warranty.” RMA commented that not all good will claims would be captured in the categories of “warranty claims (adjustment) that manufacturers must report on” and that to capture all good will claims, we should add a category of “customer satisfaction conditions.”

The final rule differed from the proposal. With respect to tire manufacturers, the final rule adopted the term “warranty adjustment,” which was defined without reference to good will, i.e., a “warranty adjustment” is “payment or other restitution” by a tire manufacturer made pursuant “to a warranty program offered by the manufacturer.” The definition adopted for “good will,” which applies to all manufacturers, included, as proposed, repair or replacement “not covered under warranty.” The issue raised by RMA is that the warranty (adjustment) systems of tire manufacturers may or may not have separate entries/designations for “good will.” Thus, if a manufacturer's warranty (adjustment) program does not include restitution where the tread, bead, sidewall, or other component has not performed satisfactorily due to adverse operating conditions, customer abuse, or service abuse, but the manufacturer nevertheless compensates for them, it would not have to report these restitutions as “warranty adjustments.” However, this is not what we intended. To address this, we are amending the definition of “warranty adjustment” to include reference to “a warranty program offered by the manufacturer or good will.”

Notwithstanding this change, we also want to confirm that we adhere to our view that we do not want to receive data on warranty adjustments that do not relate to one or more of the four identified component categories. Information about adjustments made for other reasons (e.g., replacing three additional tires when only one experienced a problem) would not help us to identify potential safety defects.

In the NPRM, we proposed that a manufacturer of tires need only report information (other than incidents involving a death, as specified in paragraph (b) of this section, if the tires of the same size and design were not manufactured or imported in quantities greater than 15,000 in any single calendar year. However, the final rule substituted for the figure 15,000 “tires that are limited production tires or are otherwise exempted from the Uniform Tire Quality Grading Standards [UTQGS] by Section 575.104(c)(1)” (i.e., “deep tread, winter-type snow tires, space-saver or temporary use spare tires, tires with nominal rim diameters of 12 inches or less”). See the last sentence in the introductory paragraph of Section 579.26. A “limited production tire” is one that meets four criteria, “as applicable,” which are posited on annual limits of 15,000, 10,000, and 35,000 tires. In its petition for reconsideration, RMA asserted that “determining whether a tire meets the UTQGS exemption is not a simple matter and could lead to vastly different interpretations by tire manufacturers. Whether or not NHTSA intended the early warning reporting exemption to be identical to the UTQGS exemption, by doing so the agency has introduced a great deal of complexity into what should be a relatively straightforward issue.” In light of this, RMA requested “that the final rule be revised to exempt all tires with an annual production of 5,000 or less from the early warning reporting requirements in Sec. 579.26, and to delete the reference to UTQGS.”

Our intent through this rulemaking has been to establish a threshold for full reporting of an annual production or importation of 15,000 tires, as originally proposed (66 FR at 66225). Our decision to reference the UTQGS was an effort to simplify the process. It appears from RMA's statement that by referring to “limited production tires,” we inadvertently made it more complicated. Therefore, we have decided to return to the specific number of 15,000 tires per year. However, we will retain the exclusion from full reporting for the types of tires excepted by Section 575.104(c)(1), since we believe that full reports on such tires would be unlikely to yield valuable information. Accordingly, the excepted phrase has been amended to incorporate the substance of Section 575.104(c)(1) without referencing UTQGS.

Our review of this issue revealed that we had made an inadvertent omission in the sentence establishing this exclusion. We stated that, with respect to the excluded tires, a manufacturer “need only report information on incidents involving a death, as specified in paragraph (b) of this section.” However, Section 579.26(b) actually requires reports of “incidents involving death or injury” (emphasis supplied). Therefore, we will add the words “or injury” to the sentence allowing exclusions from full reporting, which will now read:

For each group of tires with the same SKU, plant, and year for which the volume produced or imported is less than 15,000, or are deep tread, winter-type snow tires, space-saver or temporary use spare tires, tires with nominal rim diameters of 12 inches or less, or are not passenger car tires, light truck tires, or motorcycle tires, the manufacturer need only report information on incidents involving a death or injury, as specified in paragraph (b) of this section.

We decline to adopt RMA's suggestion to reduce the threshold to 5,000 tires per year. While a lower threshold would result in additional reporting (and increase the reporting burden on manufacturers producing between 5,000 and 15,000 of a given tire annually), it is unlikely that this additional information would lead to the identification of significant numbers of safety defects.

Under Section 579.26(d), a tire manufacturer must provide NHTSA with a list of common green tires on a quarterly basis. Included in the information to be provided is the plant where the common green tire was manufactured, brand names, and brand name owners. RMA asserted that this would not enhance the value of common green information, which is to be able to group tires “according to common internal manufacturing specifications.” We are willing to simplify reporting by tire manufacturers by eliminating the requirement identify the tire plant, which the RMA asserted is repetitive with production charts and may be linked through the SKU number provided in common green tire reporting. However, we believe that a tire fabricator must identify in the common green listing tire brand name and brand name owners for the applicable tire line. Otherwise, we would not have reports of who is a brand name owner and should be reporting under Subpart C. Accordingly, we are revising the second sentence of Section 579.26(d) to read as follows:

(d) Common green tire reporting. * * * For each specific common green tire grouping, the list shall provide all relevant tire lines, tire type codes, SKU numbers, and brand name owners.

RMA asked how manufacturers should treat tires that are imported as original equipment on imported motor vehicles, or imported as replacement tires. With respect to imported replacement tires, it recommended that the final rule be amended to allow tire manufacturers to report only the quantity of tires imported during the quarterly reporting period for purposes of complying with Section 579.26(a). For tires that are imported as original equipment on motor vehicles, RMA asserted that tire manufacturers do not have access to all information required by Section 579.26(a), since it is proprietary to the vehicle manufacturer. For such imported tires, tire manufacturers can only report fatalities and injuries “for which they receive notification.” RMA recommended that the final rule be revised “to require tire manufacturers to report only injuries and fatalities associated with imported tires on OE vehicles.”

The final rule requires reporting by a “manufacturer” who has imported tires into the United States. See Section 579.26(a). Clearly, this covers an importer of replacement tires who, by virtue of being an importer of motor vehicle equipment for resale, is a manufacturer as defined by statute. See 49 U.S.C. 30102(a)(5)(B).

Under Section 579.26(a), a tire manufacturer must report “Information that states the manufacturer's name, the quarterly reporting period, the tire line, the tire size, the tire type code, the SKU, the plant where manufactured, whether the tire is approved for use as original equipment on a motor vehicle, if so, the make, model, and model year of each vehicle for which it is approved, the cumulative warranty production, and the cumulative total production through the end of the reporting period.” An importer of tires for resale can determine this information from an examination of the tires, with the possible exception of the SKU, and the make, model, and model year of vehicles for which the tire is approved for original equipment. As the statute equates the act of importation with the act of production, the importer should not report total worldwide production, but only the number of tires of each tire line, size, etc., imported cumulatively through the end of the reporting period.

We generally do not consider importers of motor vehicles (with tires manufactured abroad) to be importers of the tires installed as OE on their vehicles, even though such tires are considered as “replacement equipment” for purposes of defect and noncompliance responsibility. See 49 CFR 573.4. Thus, with one exception (discussed below), we will not require importers of motor vehicles with foreign-made tires installed on the vehicle when imported to report under Section 579.26 as a tire manufacturer (though they would be required to report as a tire manufacturer if they import such tires separately for replacement purposes). If a vehicle manufacturer receives a claim, complaint, or field report about a tire on one of its vehicles (whether the tire was manufactured in the United States or imported), it must report that claim, etc. in the “tire” component category (code 19). Such claims, etc., would have to be reported to us even if the vehicle manufacturer forwarded them to the tire manufacturer for action or payment.

Nor would we expect tire manufacturers to report comprehensively on tires installed on new motor vehicles that they did not import themselves, since they would not have complete information as to production or other matters. Nevertheless, tire manufacturers must report information that they do receive, from whatever source, regarding claims or notices of death or injury, property damage claims, and warranty adjustments on their tires in the United States, whether they imported them or not. If such information were not reported, we would have an incomplete picture of emerging safety problems with such tires.

Notwithstanding the above discussion, an importer/manufacturer of vehicles equipped with tires at the time of importation must report as a tire manufacturer under Section 579.26 with respect to the tires installed as original equipment on its imported vehicles under the rare circumstance where the foreign fabricator of the tires does not itself import any tires into the United States and therefore would not be reporting any early warning information to us. We have made a corresponding revision to Section 579.26.

Turning to motorcycle tires, RMA asserted that because of the way they are sold and distributed, it is not possible for tire manufacturers to identify the manufacturer of the motorcycle on which their tires will be OE, “nor to easily obtain this information.” It urged deletion of the OEM column from the early warning reporting format for motorcycle tires. We are retaining the column (for all tires) because where a tire manufacturer does know the make, model, and model year for the OE application(s) of a tire, that information should be reported. If the tire manufacturer knows that a particular tire line, size, etc. is not used as OE on any vehicles, it should state “N” (for “none”) in that field in the template. If it is not sure, it should state “U” (for “unknown”) in that field.

Section 579.26 requires the reporting of early warning data “for each reporting period.” The format that RMA suggested in its comment to the NPRM would provide for cumulative (i.e., to the date of the report) reporting. Although NHTSA adopted RMA's suggested format to a large extent, the final rule required quarterly rather than cumulative reporting. In its petition, RMA reiterated its view that Section 579.26 should require the reporting of cumulative early warning data received by a manufacturer, by year of manufacture, through the end of each reporting period. We are denying RMA's petition on this point for the reasons stated in the final rule and because we want consistency in the manner of reporting among all manufacturers.

Finally, RMA raised several concerns about disclosure of early warning data. The reconsideration of the early warning final rule is not the appropriate forum for resolving issues of substance regarding confidential submissions of early warning reporting information, which will be addressed in our ongoing rulemaking to revise 49 CFR Part 512.

VIII. Petition by the Alliance Requesting Reconsideration and Clarification of Some Requirements of Sections 579.21 and 579.28

In its petition for reconsideration, the Alliance contended that the requirement imposed by Section 579.28(b) to file reports “not later than 30 days after the last day of the reporting period” does not take into account that the 30th day could be a Saturday, Sunday, or Federal holiday. It suggested that the rule should explicitly provide that the due date would be the first business day following the weekend or Federal holiday. We are granting this request, and amending Section 579.28(b) appropriately.

Finally, in its letter of October 10, 2002, the Alliance noted an inconsistency between Section 579.21(c), and Sections 579.21(b) and (d). Section 579.21(c) requires submission of information relating to “the nine model years prior to the earliest model year in the reporting period,” whereas the information to be submitted under Sections 579.21(b) and (d) relates to vehicles “less than ten calendar years old at the beginning of the reporting period.” The Alliance recommended that subsections (b) and (d) be revised to use the same language as subsection (c). We are granting the Alliance's request, and, as well, are revising similar subsections in Sections 571.22-26.

IX. Issues Arising at NHTSA's Artemis Workshop

In January 2003, we conducted a workshop to familiarize personnel from industry with the data collection and retention system that we have established for the submission of early warning reporting data (referred to as “Artemis”). The workshop indicated several areas where clarifications and simplifications could be made, and we are “fine tuning” the final rule with some minor amendments.

1. Cover Sheets

Based on our previous experience with safety recalls and from a canvass of manufacturers at the workshop, some manufacturers may wish to provide cover sheets to explain or clarify one or more portions of the data they submit. For example, a manufacturer may wish to provide an explanation for a spike appearing in data regarding a particular make, model, and model year of vehicle. We are willing to accept cover sheets provided on a voluntary basis. They may be sent to the Chief of the Defect Assessment Division, Office of Defects Investigation, NHTSA.

2. Reporting of Deaths and Injuries

At the workshop, some manufacturers requested that a new field be added to the Death and Injury Reporting Template that would allow a manufacturer to assign a unique alphanumeric code to its submission of information under paragraph (b) of Sections 579.21-26. We are adding this field to the data template but wish to emphasize that assigning such a code is voluntary and is not required. If a manufacturer has not assigned a code, it may leave the field blank.

We also want to emphasize that subsequent submissions of information to supplement that previously reported is required only for reporting of incidents involving death or injury. See Section 579.28(f) and the associated preamble discussion at 67 FR 45862-63.

The question arose whether a manufacturer who reports under Section 579.27(a) must file a report on deaths and injuries at the end of a quarter in which it received no claims or notices of death or injury. The answer is no, and we are amending Section 579.27(b) to make this clear. To require such a report would impose an unnecessary burden upon low-volume vehicle manufacturers and manufacturers of original or replacement equipment other than child restraint systems and tires. On the other hand, we believe that reports should be required of all manufacturers reporting under Sections 579.21-.26 and cover all categories of reporting, even when no relevant information has been received during a quarter. If we do not require a “zero” report, we will not know at the end of a quarter whether a report is overdue. This will assure that we have an uninterrupted flow of reports. We are making an appropriate amendment to Section 579.28(b).

3. Field Reports

The final rule requires that copies of non-dealer field reports be submitted “alphabetically by make, within each make alphabetically by model, and within each model chronologically by model year.” See, e.g., Section 579.21(d). This information standing alone will not allow us to easily identify, review, and analyze the subject of these field reports in any organized manner. We need to know the applicable system(s) or component(s) covered by a given field report. This should not complicate reporting since manufacturers already have to review field reports to sort them by model and model year.

To accomplish this goal, and to allow efficient analysis of these non-dealer field reports, we have developed a naming convention for them and have included an appropriate template on our website. That template will include fields to allow identification of the manufacturer submitting the field report, the make, model, and model year(s) of the vehicle(s) covered by the field report, and the component(s) or system(s) addressed in the report. If a non-dealer field report refers to more than one system or component category, the manufacturer must identify each such category, up to five such categories.

While ordinarily a field report will address a single make/model of vehicle, we recognize that on occasion a field report may address more than one make/model. For example, a General Motors field report could address a possible problem with a component of the fuel system and specifically mention certain Buick and Pontiac passenger cars. In order to assure consistency and to simplify reporting, we have decided that, for vehicles, when a field report refers to more than one model built on a single platform (as defined in Section 579.4(c)), in the submission of field reports it should be identified by that platform rather than by one or more of the particular makes/models referred to in the field report. In the relatively rare case where a field report refers to makes/models built on more than one platform, in order to allow us to effectively use the information, manufacturers will be required to submit multiple copies, one for each platform.

If a field report refers to more than one model year (or production year) of a given make/model or platform, the manufacturer shall submit it as though it applied to the earliest model year covered by the report. (However, when identifying the field report using the template, each model year covered by the report shall be specified.) We are making appropriate amendments in the sections on field reports to implement these changes.

Electronic submissions of field reports must be submitted as one report per file, so that we will be able to identify and review them individually. However, where a number of files are involved, manufacturers may “Zip” the files together.

4. Designation of Types of Trailers and Medium-Heavy Trucks and Buses

TTMA requested that we consider requiring trailer manufacturers to identify the “model” of trailers using the DOT VIN code designation, and provided a list of nine “models.” We have accepted this suggestion, but note that the “models” described by TTMA are more properly considered “types.” We are making an appropriate amendment to Section 579.24, adding a “type” field to the template, and amending the definition of “type” in Section 579.4(c) to specify, for trailers, that it refers to one of the ten separate categories, the nine suggested by TTMA (van trailer, flatbed, trailer converter dolly, lowbed, dump, tank, dry bulk, live stock, boat, auto transporter, and other), plus recreational trailers.

We had previously required manufacturers to identify the “type” of light vehicles and of child restraint systems. The TTMA request has led us to conclude that it would also be appropriate to also require manufacturers of medium-heavy vehicles and buses to identify the “type” of such vehicle. Viewed broadly, these types include truck, tractor, school bus as defined in 49 CFR 571.3, transit bus (a bus for local travel), coach (a bus for intercity travel), recreational vehicle (a motor vehicle other than a trailer that is designed and equipped for leisure travel), emergency vehicle (a motor vehicle, other than a light vehicle, designed for emergency service, such as fire fighting, ambulance, rescue, police use, and similar applications), and other (a medium heavy vehicle or bus not otherwise included in the types listed above). Therefore, we are making appropriate amendments to Sections 579.22 and 579.4(c), and to the template for this category of vehicles.

5. Tires

At the workshop, some tire manufacturers asked that they be allowed to use the DOT standardized plant code that NHTSA assigns (see 49 CFR 574.5(a) and 574.6(b)) for tires produced for sale in the United States as an identification of the plant where a tire was manufactured when they submit information required by Section 579.26(a) and (c). We have concurred with this. If a tire manufacturer so chooses, it may reference the two-character DOT alphanumeric codes for U.S.-located production plants. However, the full plant name must be provided for foreign tire production plants.

6. Correction of Section 579.23(c)

The reporting requirements for motorcycle manufacturers cover 20 specific systems or components identified by codes 01-20 in Section 579.23(b)(2). Section 579.23(c) erroneously refers to “codes 01 through 22 in paragraph (b)(2) of this section.” We are correcting the reference to “22” in subsection (c) to “20.”

X. Privacy Act Statement

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov.

XI. Rulemaking Analyses

Regulatory Policies and Procedures. Executive Order 12866, “Regulatory Planning and Review” (58 FR 51735, October 4, 1993) provides for making determinations whether a regulatory action is “significant” and therefore subject to Office of Management and Budget (OMB) review and to the requirements of the Executive Order. The Order defines as “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking under E.O. 12866 and the Department of Transportation's regulatory policies and procedures. This rulemaking has been determined to be significant by the Office of Management and Budget under E.O. 12866 because of congressional interest. For the same reason, this action has also been determined to be significant under DOT's regulatory policies and procedures. A detailed discussion of impacts can be found in the Final Regulatory Evaluation (FRE) that the agency has prepared for this rulemaking and filed in the docket. This action does not impose requirements on the design or production of motor vehicles or motor vehicle equipment; it only requires reporting of information in the possession of the manufacturer.

Regulatory Flexibility Act. The Regulatory Flexibility Act of 1980 (5 U.S.C. § 601 et seq.) requires agencies to evaluate the potential effects of their proposed and final rules on small businesses, small organizations and small governmental jurisdictions. Business entities are defined as small by standard industry classification for the purposes of receiving Small Business Administration (SBA) assistance. One of the criteria for determining size, as stated in 13 CFR 121.201, is the number of employees in the firm; another criteria is annual receipts. For establishments primarily engaged in manufacturing or assembling automobiles, light and heavy duty trucks, buses, motor homes, new tires, or motor vehicle body manufacturing, the firm must have less than 1,000 employees to be classified as a small business. For establishments manufacturing many of the safety systems for which reporting will be required, steering, suspension, brakes, engines and power trains, or electrical system, or other motor vehicle parts not mentioned specifically in this paragraph, the firm must have less than 750 employees to be classified as a small business. For establishments manufacturing truck trailers, motorcycles, child restraints, lighting, motor vehicle seating and interior trim packages, alterers and second-stage manufacturers, or re-tread tires the firm must have less than 500 employees to be classified as a small business.

The changes made in this final rule on reconsideration are relatively minor and may reduce burdens on some small manufacturers although not in a quantifiable way.

Based on the best information available to us at this time, I certify that this final rule will not have a significant economic impact on a substantial number of small entities.

Executive Order 13132 (Federalism). Executive Order 13132 on “Federalism” requires us to develop an accountable process to ensure “meaningful and timely input by State and local officials in the development of “regulatory policies that have federalism implications.” The Executive Order defines this phrase to include regulations “that have substantial direct effects on the States, on the relationship between the national government and the States, or on the distribution of power and responsibilities among the various levels of government.” The agency has analyzed this final rule in accordance with the principles and criteria set forth in Executive Order 13132 and has determined that it will not have sufficient federalism implications to warrant consultation with State and local officials or the preparation of a federalism summary impact statement. This final rule regulates the manufacturers of motor vehicles and motor vehicle equipment and will not have substantial direct effect on the States, on the relationship between the national government and the States, or on the distribution of power and responsibilities among the various levels of government, as specified in Executive Order 13132.

Civil Justice Reform. This final rule will not have a retroactive or preemptive effect, and judicial review of it may be obtained pursuant to 5 U.S.C. 702. That section does not require that a petition for reconsideration be filed prior to seeking judicial review.

Paperwork Reduction Act. The final rule requires manufacturers of motor vehicles and motor vehicle equipment to report information and data to NHTSA periodically. While we have not adopted a standardized form for reporting information, we will be requiring manufacturers to submit information utilizing specified templates. The provisions of this rule, including document retention provisions, are considered to be information collection requirements, as that term is defined by the Office of Management and Budget (OMB) in 5 CFR part 1320. To obtain a three-year clearance for information collection, we published a Paperwork Reduction Act notice on June 25, 2002 (67 FR 42843) pursuant to the requirements of the Paperwork Reduction Act (44 U.S.C. 3501 et seq.). We received clearance from OMB on December 20, 2002, which will expire on December 31, 2005. The clearance number is 2127-0616. The amendments made by this final rule on reconsideration are relatively minor and may reduce paperwork burdens on some manufacturers though not in a quantifiable way.

Data Quality Act. Section 515 of the FY 2001 Treasury and General Government Appropriations Act (Pub. L. 106-554, § 515, codified at 44 U.S.C. § 3516 historical and statutory note), commonly referred to as the Data Quality Act, directed OMB to establish government-wide standards in the form of guidelines designed to maximize the “quality,” “objectivity,” “utility,” and “integrity” of information that federal agencies disseminate to the public. The Act also required agencies to develop their own conforming data quality guidelines, based upon the OMB model. OMB issued final guidelines implementing the Data Quality Act (67 FR 8452, Feb. 22, 2002). On October 1, 2002, the Department of Transportation promulgated its own final information quality guidelines that take into account the unique programs and information products of DOT agencies (67 FR 61719). The DOT guidelines were reviewed and approved by OMB prior to promulgation.

NHTSA made information quality a primary focus well before passage of the Data Quality Act, and has made implementation of the new law a priority. NHTSA has reviewed its data collection, generation, and dissemination processes in order to ensure that agency information meets the standards articulated in the OMB and DOT guidelines, and plans to review and update these procedures as appropriate.

Unfunded Mandates Reform Act. The Unfunded Mandates Reform Act of 1995 (Pub. L. 104-4) requires agencies to prepare a written assessment of the costs, benefits, and other effects of proposed or final rules that include a Federal mandate likely to result in expenditures by State, local or tribal governments, in the aggregate, or by the private sector, of more than $100 million annually (adjusted annually for inflation with base year of 1995). Adjusting this amount by the implicit gross domestic product price deflator for the year 2000 results in $109 million (106.99/98.11 = 1.09). The assessment may be included in conjunction with other assessments.

These amendments to the final rule (67 FR 45822 at 45872-45883) are not estimated to result in expenditures by State, local or tribal governments of more than $109 million annually. It is not estimated to result in the expenditure by motor vehicle and motor vehicle equipment manufacturers, child restraint system manufacturers, and tire manufacturers of more than $109 million annually.

List of Subjects in 49 CFR Part 579

Imports, Motor vehicle safety, Motor vehicles, Reporting and recordkeeping requirements.

For the reasons set out in the preamble, 49 CFR part 579 is amended as follows:

PART 579—REPORTING OF INFORMATION AND COMMUNICATIONS ABOUT POTENTIAL DEFECTS

1. The authority citation for part 579 continues to read as follows:

Authority: Sec. 3, Pub. L. 106-414, 114 Stat. 1800 (49 U.S.C. 30102-103, 30112, 30117-121, 30166-167); delegation of authority at 49 CFR 1.50.

Subpart A—General

2. Section 579.4(c) is amended by revising the definitions of “Field report,” “Fire,” the second sentence of “Model,” “Model year,” the first sentence of “Service brake system,” “SKU (Stock Keeping Unit),” “Tire,” “Warranty adjustment,” and the second sentence of “Warranty claim,” and adding the definitions of “Control,” “Handle,” a third sentence to “Model,” “Production year,” and two new sentences in the definition of “Type” before the present second sentence, in alphabetical order, to read as follows:

§ 579.4 Terminology.

* * * * *

(c) Other terms. * * *

Control (including the terms controlling, controlled by, and under common control with) means the possession, direct or indirect, of the power to direct or cause the direction of the management and policies of a person, whether through the ownership of voting securities, by contract, or otherwise.

* * * * *

Field report means a communication in writing, including communications in electronic form, from an employee or representative of a manufacturer of motor vehicles or motor vehicle equipment with respect to a vehicle or equipment that has been transported beyond the direct control of the manufacturer, or from a dealer, an authorized service facility of such manufacturer, or an entity known to the manufacturer as owning or operating a fleet, to a manufacturer regarding the failure, malfunction, lack of durability, or other performance problem of a motor vehicle or motor vehicle equipment or any part thereof produced for sale by that manufacturer, regardless of whether verified or assessed to be lacking in merit, but does not include a document covered by the attorney-client privilege or the work product exclusion.

Fire means combustion or burning of material in or from a vehicle as evidence by flame. The term also includes, but is not limited to, thermal events and fire-related phenomena such as smoke, sparks, or smoldering, but does not include events and phenomena associated with a normally functioning vehicle, such as combustion of fuel within an engine or exhaust from an engine.

* * * * *

Handle means any element of a child restraint system that is designed to facilitate carrying the restraint outside a motor vehicle, other than an element of the seat shell.

* * * * *

Model * * * For equipment other than child restraint systems, it means the name that the manufacturer uses to designate it. For child restraint systems, it means the name that the manufacturer uses to identify child restraint systems with the same seat shell, buckle, base (if so equipped) and restraint system.

Model year means the year that a manufacturer uses to designate a discrete model of vehicle, irrespective of the calendar year in which the vehicle was manufactured. If the manufacturer has not assigned a model year, it means the calendar year in which the vehicle was manufactured.

* * * * *

Production year means, for equipment and tires, the calendar year in which the item was produced.

* * * * *

Service brake system means all components of the service braking system of a motor vehicle intended for the transfer of braking application force from the operator to the wheels of a vehicle, including the foundation braking system, such as the brake pedal, master cylinder, fluid lines and hoses, braking assist components, brake calipers, wheel cylinders, brake discs, brake drums, brake pads, brake shoes, and other related equipment installed in a motor vehicle in order to comply with FMVSS Nos. 105, 121, 122, or 135 (except equipment relating specifically to a parking brake). * * *

* * * * *

SKU (Stock Keeping Unit) means the alpha-numeric designation assigned by a manufacturer to uniquely identify a tire product. This term is sometimes referred to as a product code, a product ID, or a part number.

Tire means an item of motor vehicle equipment intended to interface between the road and a motor vehicle. The term includes all the tires of a vehicle, including the spare tire. For purposes of §§579.21 through 579.24 and §579.27 of this part, this term also includes the tire inflation valves, tubes, and tire pressure monitoring and regulating systems, as well as all associated switches, control units, connective elements (such as wiring harnesses, hoses, piping, etc.), and mounting elements (such as brackets, fasteners, etc.).

* * * * *

Type * * * In the context of a medium heavy vehicle and bus, it means one of the following categories: Truck, tractor, transit bus, school bus, coach, recreational vehicle, emergency vehicle, or other. In the context of a trailer, it means one of the following categories: Recreational trailers, van trailers, flatbed trailer, trailer converter dolly, lowbed trailer, dump trailer, tank trailer, dry bulk trailer, livestock trailer, boat trailer, auto transporter, or other. * * *

* * * * *

Warranty adjustment means any payment or other restitution, such as, but not limited to, replacement, repair, credit, or cash refund, made by a tire manufacturer to a consumer or to a dealer, in reimbursement for payment or other restitution to a consumer, pursuant to a warranty program offered by the manufacturer or goodwill.

Warranty claim * * * It does not include claims for reimbursement for costs or related expenses for work performed to remedy a safety-related defect or noncompliance reported to NHTSA under part 573 of this chapter, or in connection with a motor vehicle emissions-related recall under the Clean Air Act or in accordance with State law as authorized under 42 U.S.C. 7543(b) or 7507.

Subpart C—Reporting of Early Warning Information

3. The introductory text of paragraph (b) and paragraph (d) of §579.21 are revised to read as follows:

§ 579.21 Reporting requirements for manufacturers of more than 500 light vehicles annually.

* * * * *

(b) Information on incidents involving death or injury. For all light vehicles manufactured during a model year covered by the reporting period and the nine model years prior to the earliest model year in the reporting period:

* * * * *

(d) Copies of field reports. For all light vehicles manufactured during a model year covered by the reporting period and the nine model years prior to the earliest model year in the reporting period, a copy of each field report (other than a dealer report) involving one or more of the systems or components identified in paragraph (b)(2) of this section, or fire, or rollover, containing any assessment of an alleged failure, malfunction, lack of durability, or other performance problem of a motor vehicle or item of motor vehicle equipment (including any part thereof) that is originated by an employee or representative of the manufacturer and that the manufacturer received during a reporting period. These documents shall be submitted alphabetically by make, within each make alphabetically by model, and within each model chronologically by model year. For purposes of this paragraph, if a field report refers to more than one make or model of light vehicle produced by a manufacturer on a particular platform, the manufacturer shall submit the report alphabetically by platform rather than by make or model. If such a field report refers to more than one platform, separate copies shall be submitted for each such platform. If a field report refers to more than one model year of a specified make/model or platform, the manufacturer shall submit it by the earliest model year to which it refers.

4. In §579.22, the first sentence of paragraph (a), the introductory text of paragraph (b), and paragraph (d) are revised to read as follows:

§ 579.22 Reporting requirements for manufacturers of 500 or more medium heavy vehicles and buses annually.

* * * * *

(a) Production information. Information that states the manufacturer's name, the quarterly reporting period, the make, the model, the model year, the type, and the production. * * *

(b) Information on incidents involving death or injury. For all medium heavy vehicles and buses manufactured during a model year covered by the reporting period and the nine model years prior to the earliest model year in the reporting period:

* * * * *

(d) Copies of field reports. For all medium heavy vehicles and buses manufactured during a model year covered by the reporting period and the nine model years prior to the earliest model year in the reporting period, a copy of each field report (other than a dealer report) involving one or more of the systems or components identified in paragraph (b)(2) of this section, or fire, or rollover, containing any assessment of an alleged failure, malfunction, lack of durability, or other performance problem of a motor vehicle or item of motor vehicle equipment (including any part thereof) that is originated by an employee or representative of the manufacturer and that the manufacturer received during a reporting period. These documents shall be submitted alphabetically by make, within each make alphabetically by model, and within each model chronologically by model year. For purposes of this paragraph, if a field report refers to more than one make or model of vehicle produced by a manufacturer on a particular platform, the manufacturer shall submit the report alphabetically by platform rather than by make or model. If such a field report refers to more than one platform, separate copies shall be submitted for each such platform. If a field report refers to more than one model year of a specified make/model or platform, the manufacturer shall submit it by the earliest model year to which it refers.

5. In §579.23, the number “22” in paragraph (c) is revised to read “20”, and the introductory text of paragraph (b) and paragraph (d) are revised to read as follows:

§ 579.23 Reporting requirements for manufacturers of 500 or more motorcycles annually.

* * * * *

(b) Information on incidents involving death or injury. For all motorcycles manufactured during a model year covered by the reporting period and the nine model years prior to the earliest model year in the reporting period:

* * * * *

(d) Copies of field reports. For all motorcycles manufactured during a model year covered by the reporting period and the nine model years prior to the earliest model year in the reporting period, a copy of each field report (other than a dealer report) involving one or more of the systems or components identified in paragraph (b)(2) of this section or fire, containing any assessment of an alleged failure, malfunction, lack of durability, or other performance problem of a motorcycle or item of motor vehicle equipment (including any part thereof) that is originated by an employee or representative of the manufacturer and that the manufacturer received during a reporting period. These documents shall be submitted alphabetically by make, within each make alphabetically by model, and within each model chronologically by model year. For purposes of this paragraph, if a field report refers to more than one make or model of motorcycle produced by a manufacturer on a particular platform, the manufacturer shall submit the report alphabetically by platform rather than by make or model. If such a field report refers to more than one platform, separate copies shall be submitted for each such platform. If a field report refers to more than one model year of a specified make/model or platform, the manufacturer shall submit it by the earliest model year to which it refers.

6. In §579.24, paragraph (a), the introductory text of paragraph (b), and paragraph (d) are revised to read as follows:

§ 579.24 Reporting requirements for manufacturers of 500 or more trailers annually.

(a) Production information. Information that states the manufacturer's name, the quarterly reporting period, the make, the model, the model year, the type, and the production. The production shall be stated as either the cumulative production of the current model year to the end of the reporting period, or the total model year production for each model year for which production has ceased. For each model that is manufactured and available with more than one type of service brake system (i.e., hydraulic and air), the information required by this subsection shall be reported by each of the two brake types (i.e., “H” for hydraulic, “A” for air). If the service brake system in a trailer is not readily characterized as either hydraulic or air, the trailer shall be considered to have hydraulic service brakes. If a model has no brake system, it shall be reported as “N,” for none.

(b) Information on incidents involving death or injury. For all trailers manufactured during a model year covered by the reporting period and the nine model years prior to the earliest model year in the reporting period:

* * * * *

(d) Copies of field reports. For all trailers manufactured during a model year covered by the reporting period and the nine model years prior to the earliest model year in the reporting period, a copy of each field report (other than a dealer report) involving one or more of the systems or components identified in paragraph (b)(2) of this section or fire, containing any assessment of an alleged failure, malfunction, lack of durability, or other performance problem of a trailer or item of motor vehicle equipment (including any part thereof) that is originated by an employee or representative of the manufacturer and that the manufacturer received during a reporting period. These documents shall be submitted alphabetically by make, within each make alphabetically by model, and within each model chronologically by model year. For purposes of this paragraph, if a field report refers to more than one make or model of trailer produced by a manufacturer on a particular platform, the manufacturer shall submit the report alphabetically by platform rather than by make or model. If such a field report refers to more than one platform, separate copies shall be submitted for each such platform. If a field report refers to more than one model year of a specified make/model or platform, the manufacturer shall submit it by the earliest model year to which it refers.

7. §579.25 is amended by adding a sentence at the end of the introductory text, by revising the first sentence of paragraph (a) and the introductory text of paragraph (b), by adding a sentence at the end paragraph (b)(2), and by revising paragraph (d) to read as follows:

§ 579.25 Reporting requirements for manufacturers of child restraint systems.

* * * For paragraph (c) of this section, if any consumer complaints or warranty claims regarding a model of child restraint system do not specify the production year of the system, the manufacturer shall submit information for “unknown” production year in addition to the up-to-five production years for which the manufacturer must otherwise report the number of such consumer complaints/warranty claims.

(a) Production information. Information that states the manufacturer's name, the quarterly reporting period, the make, the model, the production year, the type, and the production. * * *

(b) Information on incidents involving death or injury. For all child restraint systems manufactured during a production year covered by the reporting period and the four production years prior to the earliest production year in the reporting period:

* * * * *

(2) * * * If the production year of the child restraint system is unknown, the manufacturer shall specify the number “9999” in the field for production year.

* * * * *

(d) Copies of field reports. For all child restraint systems manufactured during a production year covered by the reporting period and the four production years prior to the earliest production year in the reporting period, a copy of each field report (other than a dealer report) involving one or more of the systems or components identified in paragraph (b)(2) of this section, containing any assessment of an alleged failure, malfunction, lack of durability, or other performance problem of a child restraint system (including any part thereof) that is originated by an employee or representative of the manufacturer and that the manufacturer received during a reporting period. These documents shall be submitted alphabetically by make, within each make alphabetically by model, and within each model chronologically by production year. For purposes of this paragraph, if a field report refers to more than one make or model of child restraint system produced by a manufacturer, the manufacturer shall submit the report under the first such model in alphabetical order. If a field report refers to more than one production year of a specified make/model, the manufacturer shall submit it by the earliest production year to which it refers.

8. In §579.26, the introductory text is revised, a sentence is added at the end of paragraph (a), introductory text is added in paragraph (b), and the last sentences of paragraph (c) and of paragraph (d) are revised to read as follows:

§ 579.26 Reporting requirements for manufacturers of tires.

For each reporting period, a manufacturer (including a brand name owner) who has manufactured for sale, sold, offered for sale, introduced or delivered for introduction in interstate commerce, or imported tires in the United States shall submit the information described in this section. For purposes of this section, an importer of motor vehicles for resale is deemed to be the manufacturer of the tires on and in the vehicle at the time of its importation if the manufacturer of the tires is not required to report under this section. For paragraphs (a) and (c) of this section, the manufacturer shall submit information separately with respect to each tire line, size, SKU, plant where manufactured, and model year of tire manufactured during the reporting period and the four calendar years prior to the reporting period, including tire lines no longer in production. For each group of tires with the same SKU, plant where manufactured, and year for which the volume produced or imported is less than 15,000, or are deep tread, winter-type snow tires, space-saver or temporary use spare tires, tires with nominal rim diameters of 12 inches or less, or are not passenger car tires, light truck tires, or motorcycle tires, the manufacturer need only report information on incidents involving a death or injury, as specified in paragraph (b) of this section. For purposes of this section, the two-character DOT alphanumeric code for production plants located in the United States assigned by NHTSA in accordance with §§574.5(a) and 574.6(b) of this chapter may be used to identify “plant where manufactured.” If the production plant is located outside the United States, the full plant name must be provided.

(a) Production information. * * * If the manufacturer knows that a particular group of tires is not used as original equipment on a motor vehicle, it shall state “N” in the appropriate field, and if the manufacturer is not certain, it shall state “U” in that field.

(b) Information on incidents involving death or injury. For all tires manufactured during a production year covered by the reporting period and the four production years prior to the earliest production year in the reporting period:

* * * * *

(c) Numbers of property damage claims and warranty adjustments. * * * No reporting is necessary if the system or component involved is not specified in such codes, or if the TIN is not specified in any property damage claim.

(d) Common green tire reporting. * * * For each specific common green tire grouping, the list shall provide all relevant tire lines, tire type codes, SKU numbers, brand names, and brand name owners.

9. Section 579.27 is amended by adding a sentence at the end of paragraph (b) and by adding a new paragraph (c)(6) to read as follows:

§ 579.27 Reporting requirements for manufacturers of fewer than 500 vehicles annually, for manufacturers of original equipment, and for manufacturers of replacement equipment other than child restraint systems and tires.

* * * * *

(b) Information on incidents involving deaths. * * * If a manufacturer has not received such a claim or notice during a reporting period, the manufacturer need not submit a report to NHTSA for that reporting period.

(c) * * *

(6) For original and replacement equipment, if the production year of the equipment is unknown, the manufacturer shall specify the number “9999” in the field for model or production year.

10. Section 579.28 is amended by adding two sentences at the end of paragraph (b), by redesignating paragraphs (h), (i), (j), (k), and (l) as (i), (j), (k), (l), and (m), respectively, and by adding new paragraph (h) to read as follows:

§ 579.28 Due date of reports and other miscellaneous provisions.

* * * * *

(b) Due date of reports. * * * Except as provided in §579.27(b), if a manufacturer has not received any of the categories of information or documents during a quarter for which it is required to report pursuant to §§579.21 through 579.26, the manufacturer's report must indicate that no relevant information or documents were received during that quarter. If the due date for any report is a Saturday, Sunday, or a Federal holiday, the report shall be due on the next business day.

* * * * *

(h) When a report involving a claim or notice is not required. If a manufacturer has reported a claim or notice relating to an incident involving death or injury, the manufacturer need not:

(1) Report a claim or notice arising out of the incident by a person who was not injured physically, and

(2) Include in its number of property damage claims a property damage claim arising out of the incident.

* * * * *

11. Section 579.29(b) is amended by adding a new last sentence to read as follows:

§ 579.29 Manner of reporting.

* * * * *

(b) Submission of documents. * * * Each document shall be identified in accordance with the templates provided at NHTSA's early warning Web site, which is identified in paragraph (a)(1) of this section.

* * * * *

Issued on: June 5, 2003.
Jeffrey W. Runge,
Administrator.

[FR Doc. 03-14702 Filed 6-6-03; 4:12 pm]

BILLING CODE 4910-59-P